DEPARTMENT OF COMMERCE

National Oceanic and Atmospheric Administration

Proposed Information Collection; Comment Request; Reporting of Sea Turtle Entanglement in Fishing Gear or Marine Debris

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 14, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Kate Sampson, (978) 282-8470 or kate.sampson@noaa.gov.

SUPPLEMENTARY INFORMATION:

I. Abstract

This request is for extension of a currently approved collection.

Sea turtles can become accidentally entangled in active or discarded fishing gear, marine debris, or other lines in the marine environment. These entanglements may prevent the recovery of endangered and threatened sea turtle populations. NOAA's Marine Fisheries Service (NMFS) established the Sea Turtle Disentanglement Network in response to the threat of entanglement, in particular in the vertical line of fixed gear fisheries. The Network's goals are to increase reporting and to reduce sea turtle serious injury and mortality associated with these events. As there is limited to no observer coverage of pot gear fisheries, NMFS relies on the Network, the United States Coast Guard, the fishing industry, Federal, state, and local authorities, and the public for this information, which helps NMFS understand the threats to sea turtle populations in the Northeast Region (Maine to Virginia).

II. Method of Collection

Reports will be submitted on paper (faxed or mailed), by telephone, or, most frequently, electronically.

III. Data

OMB Control Number: 0648-0496.

Form Number: None.

Type of Review: Regular submission (extension of a currently approved collection).

Affected Public: Business or other for-profit organizations, individuals or households, not-for-profit institutions, Federal government, and state, local or tribal government.

Estimated Number of Respondents: 88.

Estimated Time Per Response: Two hours to two hours and 30 minutes per case (75 cases).

Estimated Total Annual Burden Hours: 164.

Estimated Total Annual Cost to Public: $450 (recordkeeping/reporting).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 6, 2014.
Gwellnar Banks,
Management Analyst, Office of the Chief Information Officer.

[FR Doc. 2014-03011 Filed 2-11-14; 8:45 am]

BILLING CODE 3510-22-P